DEPARTMENT OF DEFENSE

Office of the Secretary

[Transmittal No. 20-31]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-31 with attached Policy Justification and Sensitivity of Technology.

Dated: August 17, 2020.
Aaron T. Siegel,
Alternate OSD Federal Register Liaison Officer, Department of Defense.

Transmittal No. 20-31

Notice of Proposed Issuance of Letter of Offer Pursuant to Section 36(b)(1) of the Arms Export Control Act, as amended

(i) Prospective Purchaser: Government of Argentina

(ii) Total Estimated Value:

Major Defense Equipment* | $ 69 million
Other | $ 31 million
TOTAL | $100 million

(iii) Description and Quantity or Quantities of Articles or Services under Consideration for Purchase:

Major Defense Equipment (MDE):

Twenty-seven (27) M1126 Stryker Infantry Carrier Vehicles

Twenty-seven (27) M2 Flex .50 Cal Machine Guns

Non-MDE:

Also included are AN/VAS-5 Driver's Vision Enhancers; AN/VIC-3 Vehicle Intercom Systems; AN/VRC-91E Single Channel Ground and Airborne Radio System (SINCGARS); Basic Issue Items (BIi); Components of End Items (COEI); Additional Authorized List (AAL); Special Tools and Test Equipment (STTE); M6 Smoke Grenade launchers and associated spares; Outside Continental United States (OCONUS) De-processing Service; OCONUS Contractor-provided training; Field Service Representatives (FSR); technical manuals; spare parts; U.S. Government and contractor engineering, technical, and logistics support services; and other related elements of logistical and program support.

(iv) Military Department: Army (AR-B-UYU)

(v) Prior Related Cases, if any: None

(vi) Sales Commission, Fee, etc., Paid, Offered, or Agreed to be Paid: None

(vii) Sensitivity of Technology Contained in the Defense Article or Defense Services Proposed to be Sold: None

(viii) Date Report Delivered to Congress: July 6, 2020

* As defined in Section 47(6) of the Arms Export Control Act.

POLICY JUSTIFICATION

Argentina—Stryker Infantry Carrier Vehicles

The Government of Argentina has requested to buy twenty-seven (27) M1126 Stryker Infantry Carrier Vehicles and twenty-seven (27) M2 Flex .50 Cal Machine Guns. Also included are AN/VAS-5 Driver's Vision Enhancers; AN/VIC-3 Vehicle Intercom Systems; AN/VRC-91E Single Channel Ground and Airborne Radio System (SINCGARS); Basic Issue Items (BIi); Components of End Items (COEI); Additional Authorized List (AAL); Special Tools and Test Equipment (STTE); M6 Smoke Grenade launchers and associated spares; Outside Continental United States (OCONUS) De-processing Service; OCONUS Contractor-provided training; Field Service Representatives (FSR); technical manuals; spare parts; U.S. Government and contractor engineering, technical, and logistics support services; and other related elements of logistical and program support. The total estimated program cost is $100 million.

This proposed sale will support the foreign policy goals and national security objectives of the United States by improving the security of a Major Non-NATO Ally that is a strategic partner in South America.

The proposed sale will improve Argentina's capability to meet current and future threats by increasing operational capabilities and force availability. Argentina will use the Stryker vehicles to conduct stability operations in support of disaster relief and international peace keeping obligations. Argentina will have no difficulty absorbing these vehicles into its armed forces.

The proposed sale of this equipment will not alter the basic military balance in the region.

The prime contractor will be General Dynamics Land Systems, Anniston, AL. There are no known offset agreements in connection with this potential sale.

Implementation of this proposed sale will require the temporary assignment of two (2) U.S. contractor representatives to Argentina to support the program.

There will be no adverse impact on U.S. defense readiness as a result of this proposed sale.

Transmittal No. 20-31

Notice of Proposed Issuance of Letter of Offer Pursuant to Section 36(b)(1) of the Arms Export Control Act

Annex

Item No. vii

(vii) Sensitivity of Technology:

1. The M1126 Stryker is an infantry carrier vehicle transporting nine soldiers, their mission equipment, and a crew of two, consisting of a driver and vehicle commander. It is equipped with armor protection, M2 machine guns, and M6 smoke grenade launchers for self-protection. The Stryker is an eight-wheeled vehicle powered by a 350 hp diesel engine. It incorporates a central tire inflation system, run-flat tires, and a vehicle height management system. The Stryker is capable of supporting a communications suite, a Global Positioning System (GPS), and a high frequency and near-term digital radio systems. The Stryker is deployable by C-130 aircraft and combat capable upon arrival. The Stryker is capable of self-deployment by highway and self-recovery. It has a low noise level that reduces crew fatigue and enhances survivability. It moves about the battlefield quickly and is optimized for close, complex, or urban terrain. The Stryker program leverages non-developmental items with common subsystems and components to quickly acquire and filed these systems.

2. The AN/VAS-5 Driver's Vision Enhancer is a compact thermal camera providing armored vehicle drivers with day or night time visual awareness in clear or reduced vision (fog, smoke, dust) situations. The system provides the driver a 180 degree viewing angle using a high resolution infrared sensor and image stabilization to reduce the effect of shock and vibration. The viewer and monitor are ruggedized for operation in tactical environments.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Argentina can provide substantially the same degree of protection for the sensitive technology being released as the U.S. Government. This sale is necessary in furtherance of the U.S. foreign policy and national security objectives outlined in the Policy Justification.

6. All defense articles and services listed in this transmittal have been authorized for release and export to the Argentina.

[FR Doc. 2020-18786 Filed 8-25-20; 8:45 am]

BILLING CODE 5001-06-P